DEPARTMENT OF TRANSPORTATION

Federal Motor Carrier Safety Administration

[Docket No. FMCSA-2013-0349]

Agency Information Collection Activities; Revision of a Currently Approved Information Collection Request: Hazardous Materials Safety Permits

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval. The FMCSA requests approval to revise and extend an ICR entitled, “Hazardous Materials Safety Permits.” This ICR requires companies holding permits to develop communications plans that allow for the periodic tracking of the shipments. A record of the communications that includes the time of the call and location of the shipment may be kept by either the driver (e.g., recorded in the log book) or the company. The motor carrier or driver must maintain a record of the communications for at least six months after the initial acceptance of a shipment of hazardous material for which a safety permit is required.

DATES: Please send your comments by May 7, 2014. OMB must receive your comments by this date in order to act on the ICR.

ADDRESSES: All comments should reference Federal Docket Management System (FDMS) Docket Number FMCSA-2013-0349. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street NW., Washington, DC 20503.

FOR FURTHER INFORMATION CONTACT: Mr. Paul Bomgardner, Hazardous Materials Division, Department of Transportation, Federal Motor Carrier Safety Administration, West Building 6th Floor, 1200 New Jersey Avenue SE., Washington, DC 20590. Telephone: 202-493-0027; email paul.bomgardner@dot.gov. Office hours are from 9 a.m. to 5 p.m., Monday through Friday, except Federal Holidays.

SUPPLEMENTARY INFORMATION: Title: Hazardous Materials Safety Permits.

OMB Control Number: 2126-0030.

Type of Request: Revision of a currently approved ICR.

Respondents: Motor carriers subject to the Hazardous Materials Safety Permit. requirements in 49 CFR Part 385 Subpart E.

Estimated Number of Respondents: 1,382.

Estimated Time per Response: 5 minutes. The communication between motor carriers and their drivers must take place at least two times per day. It is estimated that it will take 5 minutes to maintain a daily communication record for each driver.

Expiration Date: May 31, 2014.

Frequency of Response: On occasion.

Estimated Total Annual Burden: 967,000 hours [11.6 million trips × 5 minutes/60 minutes per record = 966,666.66 rounded to 967,000].

Background

The Secretary of Transportation (Secretary) is responsible for implementing regulations to issue safety permits for transporting certain Hazardous Materials (HM) in accordance with 49 U.S.C. 5101 et seq. The HM Safety Permit regulations (49 CFR part 385, Subpart E) require carriers to complete a “Combined Motor Carrier Identification Report and HM Permit Application” (Form MCS-150B). The HM Safety Permit regulations also require carriers to have a security program. As part of the HM Safety Permit regulations, carriers are required to develop and maintain route plans so that law enforcement officials can verify the correct location of the HM shipment. The FMCSA requires companies holding permits to develop a communications plan that allows for the periodic tracking of the shipment. This information covers the record of communications that includes the time of the call and location of the shipment. The records must be kept by either the driver (e.g., recorded in the log book) or the company for at least six months after the initial acceptance of a shipment of hazardous material for which a safety permit is required.

Comments From the Public

General Summary

FMCSA received three comments to the 60-day Federal Register notice published on December 10, 2013 (78 FR 74222) regarding the Agency's Information Collection Activities; Revision of a Currently-Approved Information Collection Request: Hazardous Materials Safety Permits. Comments were received from Boyle Transportation, a business consultant and engineer, and Landstar Transportation Logistics. Comments and responsive considerations are as follows:

Boyle Transportation commented that it is necessary to track shipments more than two times a day; tracking technologies are widely available in the industry and carriers should maintain fully staffed operations center to monitor shipments. FMCSA responded that the requirements stated in 49 CFR 385.415(c)(1) are a minimum requirement for Hazardous Materials Safety Permits (HMSP) carriers and carriers are encouraged to use state-of-the art monitoring and tracking devices.

The business consultant and engineer stated that we should start taking a stand against pollution. There was no return address in the comment for FMCSA to send a response, and the comment is beyond the scope of this ICR.

Landstar Transportation Logistics asks that if a carrier is using a satellite tracking system to monitor a hazardous materials load, FMCSA should eliminate the redundant requirement for operators to make specific contact with the carrier at the beginning and end of each duty tour, and at the pickup and delivery of each permitted load. FMCSA responded that the requirement is not viewed as redundant and the requirements stated in 49 CFR 385.415(c)(1) are a basic and minimum requirement for all HMSP carriers and carriers are encouraged to use state-of-the-art tracking devices, but their use is not required.

Public Comments Invited: You are asked to comment on any aspect of this information collection, including: (1) Whether the proposed collection is necessary for the FMCSA to perform its functions; (2) the accuracy of the estimated burden; (3) ways for the FMCSA to enhance the quality, usefulness, and clarity of the collected information; and (4) ways that the burden could be minimized without reducing the quality of the collected information.

Issued under the authority of 49 CFR 1.87 on: March 31, 2014.
G. Kelly Leone,
Associate Administrator, Office of Research and Information Technology and Chief Information Officer.

[FR Doc. 2014-07690 Filed 4-4-14; 8:45 am]

BILLING CODE 4910-EX-P